DEPARTMENT OF AGRICULTURE

Forest Service

Information Collection; Extension of Timber Sales

AGENCY: Forest Service, USDA.

ACTION: Notice; request for comment.

SUMMARY: In accordance with the Paperwork Reduction Act of 1995, the Forest Service is seeking comments from all interested individuals and organizations on the new information collection, Extension of Timber Sales.

DATES: Comments must be received in writing on or before September 22, 2008 to be assured of consideration. Comments received after that date will be considered to the extent practicable.

ADDRESSES: Written comments concerning this notice should be addressed to USDA Forest Service, Director of Forest Management, 1400 Independence Avenue, SW., Mail Stop 1103, Washington, DC 20250-1103. Comments may also be sent via e-mail to mrcta@fs.fed.us, or via facsimile to Lathrop Smith at (202) 205-1045.

All comments, including names and addresses when provided, are placed in the record and are available for public inspection and copying. The public may inspect comments received at the office of the Director of Forest Management, Third Floor, Southwest Wing, Yates Building, 201 14th Street, SW., Washington, DC. Visitors are encouraged to call ahead to (202) 205-1496 to facilitate entry to the building.

FOR FURTHER INFORMATION CONTACT: Lathrop Smith, Forest Management staff, at (202) 205-0858, or Richard Fitzgerald, Forest Management staff, at (202) 205-1753.

Individuals who use telecommunication devices for the deaf (TDD) may call the Federal Information Relay Service (FIRS) at 1-800-877-8339 between 8 a.m. and 8 p.m., Eastern Standard Time, Monday through Friday.

SUPPLEMENTARY INFORMATION: Title: Extension of Timber Sales.

OMB Number: 0596-New.

Type of Request: New.

Abstract: Section 8401 of the Food Conservation, and Energy Act of 2008, Public Law No. 110-246, 122 Stat. 1651, June 18, 2008 (Section 8401), provides several different relief options for timber sale purchasers holding contracts with rates significantly higher than current timber market rates due to a drastic reduction in forest products markets. The relief options include: (a) Contract cancellation or rate redetermination, (b) substitution of the Bureau of Labor statistics producer price index specified in the contract, (c) rate redetermination following substitution of index, (d) extension of contracts using the hardwood lumber index, and (e) extension of Market-Related Contract term Addition time limit for certain contracts. To obtain the benefits of these options, National Forest System timber sale purchasers are required to provide certain information not previously authorized for collection by OMB. Depending on the benefits sought this may include: (1) A Request for Relief and Release of Liability Statement on form FS-2400-71, (2) a Contract Cancellation and Release of Liability Agreement on form FS-2400-70, and (3) for purchasers seeking a change in the index used for determining market-related contract term additions and emergency rate redeterminations, identification by the purchaser, in writing, how much of the contract timber volume will be processed into softwood lumber, hardwood lumber and/or wood chip products.

Forms FS-2400-70 and FS-2400-71 become legally binding documents upon signing by the purchaser and Forest Service and as such must be submitted by the purchaser in hard copy with original signatures. The information regarding identification of products the purchaser intends to produce from the sale when seeking a change in index may be submitted by the purchaser in hard copy or electronically by facsimile.

Information identified above will be collected from purchasers by Forest Service contracting officers who will use the information to determine eligibility for the benefit requested. The information requested is not available from any other source and is unique to a single event in the life of a contract. The information is not used for any statistical purposes. No confidential information is involved and no information of a sensitive nature is collected. The information requested is readily available to timber sale purchasers and does not require any record keeping.

Without the release of liability statements and agreements the government is vulnerable to lawsuits from purchasers seeking compensation or damages resulting from conditions or events that were not part of the original contract. For example, a purchaser holding a contract that is extended pursuant to the Farm Bill past the original termination date and that subsequently has to be unilaterally modified during the extension period because of a newly listed endangered species, may seek damages against the government resulting from the modification if the extension was granted without a limited liability agreement.

The index used in contracts to determine when a market-related contract term addition and/or emergency rate redetermination should occur has long term implications to the contract. Prior to changing the index the contract record must contain written documentation that the purchaser initiated the request to change the index, including documentation of the products it intended to produce from the timber at the time the request was made. Without this documentation a purchaser could allege that the government unilaterally and inappropriately changed the index.

Estimated Annual Burden: 10 minutes per response.

Type of Respondents: Individuals, large and small businesses, and corporations.

Estimated Number of Respondents: 1030.

Estimate Number of Responses per Respondent: 1.

Estimated Number of Total Annual Responses: 1230 (1030 FS-2400-71, 100 FS-2400-70, and 100 Classification of Volume).

Estimated Total Annual Burden on Respondents: 206 hours.

Comment is invited on: (1) Whether the proposed collection of information is necessary for the stated purposes or the proper performance of the functions of the agency, including whether the information shall have practical or scientific utility; (2) the accuracy of the agency's estimate of the burden of the proposed collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including name and address when provided, will be summarized and included in the request for Office of Management and Budget approval. All comments also will become a matter of public record.

Dated: July 16, 2008.
Joel D. Holtrop,
Deputy Chief, National Forest System.

[FR Doc. E8-16785 Filed 7-21-08; 8:45 am]

BILLING CODE 3410-11-P